DEPARTMENT OF ENERGY

Federal Energy Regulatory Commission

Combined Notice of Filings

Take notice that the Commission has received the following Natural Gas Pipeline Rate and Refund Report filings:

Docket Number: PR20-53-001.

Applicants: Southcross CCNG Transmission Ltd.

Description: Tariff filing per 284.123(b),(e)/: Rate Election and Amended Statement of Operating Conditions to be effective 10/20/2020.

Filed Date: 10/20/2020.

Accession Number: 202010205020.

Comments/Protests Due: 5 p.m. ET 11/3/2020.

Docket Numbers: RP20-1267-000.

Applicants: Mississippi Hub, LLC.

Description: Annual Penalty Disbursement Report of Mississippi Hub, LLC under RP20-1267.

Filed Date: 9/30/20.

Accession Number: 20200930-5249.

Comments Due: 5 p.m. ET 11/3/20.

Docket Numbers: RP21-72-000.

Applicants: Granite State Gas Transmission, Inc.

Description: Compliance filing Petition for Approval of Settlement to be effective 11/1/2020.

Filed Date: 10/21/20.

Accession Number: 20201021-5000.

Comments Due: 5 p.m. ET 11/2/20.

Docket Numbers: RP21-73-000.

Applicants: Natural Gas Pipeline Company of America.

Description: § 4(d) Rate Filing: Negotiated Rate Agreement Filing-Conoco Phillips to be effective 11/1/2020.

Filed Date: 10/21/20.

Accession Number: 20201021-5001.

Comments Due: 5 p.m. ET 11/2/20.

Docket Numbers: RP21-74-000.

Applicants: Natural Gas Pipeline Company of America.

Description: § 4(d) Rate Filing: Negotiated Rate Agreement Filing-Morgan Stanley to be effective 11/1/2020.

Filed Date: 10/21/20.

Accession Number: 20201021-5002.

Comments Due: 5 p.m. ET 11/2/20.

Docket Numbers: RP21-75-000.

Applicants: Southern LNG Company, L.L.C.

Description: § 4(d) Rate Filing: SLNG Electric Power Cost Adjustment—2020 to be effective 12/1/2020.

Filed Date: 10/21/20.

Accession Number: 20201021-5003.

Comments Due: 5 p.m. ET 11/2/20.

Docket Numbers: RP21-76-000.

Applicants: Steckman Ridge, LP.

Description: § 4(d) Rate Filing: Steckman Ridge LINK URL Conversion Filing to be effective 11/23/2020.

Filed Date: 10/21/20.

Accession Number: 20201021-5031.

Comments Due: 5 p.m. ET 11/2/20.

Docket Numbers: RP21-77-000.

Applicants: Maritimes & Northeast Pipeline, L.L.C.

Description: § 4(d) Rate Filing: Maritimes LINK URL Conversion Filing to be effective 11/23/2020.

Filed Date: 10/21/20.

Accession Number: 20201021-5032.

Comments Due: 5 p.m. ET 11/2/20.

Docket Numbers: RP21-78-000.

Applicants: Texas Eastern Transmission, LP.

Description: Compliance filing TETLP OFO October 2020 Penalty Disbursement Report.

Filed Date: 10/21/20.

Accession Number: 20201021-5038.

Comments Due: 5 p.m. ET 11/2/20.

Docket Numbers: RP21-79-000.

Applicants: Texas Eastern Transmission, LP.

Description: § 4(d) Rate Filing: Negotiated Rates—911427 & 910230 to be effective 11/1/2020.

Filed Date: 10/21/20.

Accession Number: 20201021-5052.

Comments Due: 5 p.m. ET 11/2/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2020.
Nathaniel J. Davis, Sr.,
Deputy Secretary.

[FR Doc. 2020-23863 Filed 10-27-20; 8:45 am]

BILLING CODE 6717-01-P